FEDERAL COMMUNICATIONS COMMISSION

47 CFR Part 73

[MB Docket No. 21-248; RM-11910-; DA 22-919; FR ID 103525]

Television Broadcasting Services Staunton, Virginia

AGENCY: Federal Communications Commission.

ACTION: Final rule.

SUMMARY: On June 15, 2021, the Media Bureau, Video Division (Bureau) issued a Notice of Proposed Rulemaking in response to a petition for rulemaking filed by VPM Media Corporation (VPM or Petitioner), the licensee of WVPT, channel *11, Staunton, Virginia, requesting the substitution of channel *15 for channel *11 at Staunton in the Table of TV Allotments. For the reasons set forth in the Report and Order referenced below, the Bureau amends FCC regulations to substitute channel *15 for channel *11 at Staunton.

DATES: Effective September 19, 2022.

FOR FURTHER INFORMATION CONTACT: Joyce Bernstein, Media Bureau, at (202) 418-1647 or Joyce.Bernstein@fcc.gov.

SUPPLEMENTARY INFORMATION: The proposed rule was published at 86 FR 34695 on June 30, 2021. The Petitioner filed comments in support of the petition reaffirming its commitment to apply for channel *15. No other comments were filed.

We find that the public interest would be served by substituting channel *15 for channel *11 at Staunton, Virginia . We believe the public interest would be served by substituting channel *15 for channel *11 at Staunton, Virginia. As the Petitioner notes, the challenges of digital reception are well-documented and the Commission has recognized the deleterious effects of manmade noise on the reception of digital VHF signals, including VHF channel propagation characteristics that allow undesired signals and noise to be receivable at relatively far distances and nearby electrical devices to cause interference are exacerbated by rugged terrain. The proposed channel *15 facilities will result in a small loss area when compared to WVPT's existing service area, largely due to the deep null required for the proposed WVPT-1 site on channel *15 to protect the NRAO and SGRS (formerly NRRO). However, the Station will continue to serve this area by operating from its current WVPT-3 site as a translator on either channel *11 (its current licensed channel) or channel *12 (its current temporary channel). Furthermore, a staff analysis confirms that the change in channel will result in a gain of 34,790 new viewers that previously did not have access to WVPT, and a loss of noncommercial educational service to 477 persons, which is de minimis.

WVPT is located within the National Radio Quiet Zone (NRQZ), an area of approximately 13,000 square miles created to minimize possible harmful interference at the National Radio Astronomy Observatory (NRAO) site located at Green Bank, West Virginia, and the Naval Radio Research Observatory (NRRO) site at Sugar Grove, West Virginia. The Commission's rules requires that the NRAO be notified, in writing, of any proposed construction and operation of a new or modified station at a permanent fixed location in the Quiet Zone, including the technical details of the proposed operation. Petitioner amended its Petition for Rulemaking on August 29, 2022 to provide a Letter of Concurrence, dated August 12, 2022, from the National Radio Quiet Zone (NRQZ) confirming that neither the NRAO or the Sugar Grove Research Station (SGRS, formerly the NRRO) object to this frequency assignment subject to continued coordination.

This is a synopsis of the Commission's Report and Order, MB Docket No. 21-248; RM-11910; DA 22-919, adopted September 1, 2022, and released September 1, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under Virginia, by revising the entry for Staunton to read as follows:

§ 73.622 Digital television table of allotments.

* * * * *

(j) * * *

Community | Channel No.
* * * * *
VIRGINIA
* * * * *
Staunton | * 15
* * * * *

[FR Doc. 2022-19883 Filed 9-16-22; 8:45 am]

BILLING CODE 6712-01-P